FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than November 9, 2012.

A. Federal Reserve Bank of Atlanta (Chapelle Davis, Assistant Vice President) 1000 Peachtree Street, NE., Atlanta, Georgia 30309:

1. Moishe Gubin, Hillside, Illinois; to acquire additional voting shares of OptimumBank Holdings, Inc., Ft. Lauderdale, Florida, and thereby indirectly acquire voting shares of OptimumBank, Plantation, Florida.

B. Federal Reserve Bank of Dallas (E. Ann Worthy, Vice President) 2200 North Pearl Street, Dallas, Texas 75201-2272:

1. Byron Dirk Bagenstos, Cherokee, Oklahoma; Greggory Earl Glass, Kevin Russell Murrow, Mike Lee Mackey, all of Alva, Oklahoma; and Warren Dean Hughes, Carmen, Oklahoma; as a group acting in concert to acquire voting shares of S G Bancshares, Inc., and thereby indirectly acquire voting shares of State Guaranty Bank, both in Okeene, Oklahoma.

Board of Governors of the Federal Reserve System, October 22, 2012.
Robert deV. Frierson,
Secretary of the Board.

[FR Doc. 2012-26297 Filed 10-24-12; 8:45 am]

BILLING CODE 6210-01-P